DEPARTMENT OF LABOR

Office of the Secretary

Submission for OMB Review; Comment Request

July 28, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on (202) 693-4122 (this is not a toll-free number) or e-mail: mills.ira@dol.gov.

Comments should be sent to Office of Information and Regulatory Affairs, Attn: OMB Desk Officer for DOL, Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Planning Guidance and Instructions for Submission of the Strategic Five Year State Plan and Plan Modifications for Title I of the Workforce Investment Act of 1998 and the Wagner Payser Act.

OMB Number: 1205-0398.

Frequency: On occasion.

Affected Public: State, local, or tribal government.

Number of Respondents: 59.

Number of Annual Responses: 59.

Estimated Time per Response: 25 hours.

Burden Hours Total: 1475.

Total Annualized Capital/Startup Costs: $0.

Total Annual Costs (operating/maintaining systems or purchasing services): $0.

Description: The Workforce Investment Act of 1998 (Public Law 105-220) provides the framework for a network of State workforce investment systems designed to meet the needs of the nation's businesses, job seekers, youth, and those who want to further their careers. Title I requires that States develop five-year strategic plans for this system, which must also contain the detail plans required under the Wagner-Peyser Act (29 U.S.C. 49g). The Act also requires States to request new Plans (if expiring) and modifications to these Plans as outlined by WIA (20CFR661.230) or the Wagner-Peyser Act (20 CFR 652.212-214).

Ira L. Mills,
Departmental Clearance Officer.

[FR Doc. 04-18442 Filed 8-11-04; 8:45 am]

BILLING CODE 4510-30-P